NUCLEAR REGULATORY COMMISSION

[NRC-2015-0001]

Sunshine Act Meeting Notice

DATE: May 25, June 1, 8, 15, 22, 29, 2015.

PLACE: Commissioners' Conference Room, 11555 Rockville Pike, Rockville, Maryland.

STATUS: Public and closed.

Week of May 25, 2015

There are no meetings scheduled for the week of May 25, 2015.

Week of June 1, 2015—Tentative

There are no meetings scheduled for the week of June 1, 2015.

Week of June 8, 205—Tentative

Tuesday, June 9, 2015

9:30 a.m. Briefing on NRC Insider Threat Program (Closed—Ex. 1 & 2)

Thursday, June 11, 2015

10:00 a.m. Meeting with the Advisory Committee on Reactor Safeguards (Public Meeting)

(Contact: Edwin Hackett, 301-415-7360)

This meeting will be webcast live at the Web address— http://www.nrc.gov/.

Week of June 15, 2015—Tentative

There are no meetings scheduled for the week of June 15, 2015.

Week of June 22, 2015—Tentative

Tuesday, June 23

9:00 a.m. Briefing on Human Capital and Equal Employment Opportunity (Public Meeting)

(Contact: Dafna Silberfeld, 301-287-0737)

This meeting will be webcast live at the Web address— http://www.nrc.gov/.

Thursday, June 25, 2015

9:00 a.m. Briefing on Proposed Revisions to Part 10 CFR part 61 and Low-Level Radioactive Waste Disposal (Public Meeting)

(Contact: Gregory Suber, 301-415-8087)

This meeting will be webcast live at the Web address— http://www.nrc.gov/.

Week of June 29, 2015—Tentative

There are no meetings scheduled for the week of June 29, 2015.

* * * * *

The schedule for Commission meetings is subject to change on short notice. For more information or to verify the status of meetings, contact Glenn Ellmers at 301-415-0442 or via email at Glenn.Ellmers@nrc.gov.

* * * * *

Additional Information

By a vote of 4-0 on May 18 and 20, 2015, the Commission determined pursuant to U.S.C. 552b(e) and 9.107(a) of the Commission's rules that an Affirmation Session for Pacific Gas & Electric Company (Diablo Canyon Power Plant, Units 1 and 2), Petition to Intervene and Request for Hearing by Friends of the Earth be held with less than one week notice to the public. The meeting was held May 21, 2015.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: May 21, 2015.
Glenn Ellmers,
Policy Coordinator, Office of the Secretary.

[FR Doc. 2015-12790 Filed 5-21-15; 4:15 pm]

BILLING CODE 7590-01-P